DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket Number FRA-2006-23593

Applicant: Union Pacific Railroad Company, Mr. Doug W. Wills, Senior Director Operating Practices/Safety, 1400 Douglas Street, Mail Stop 1020, Omaha, Nebraska 68179-1020.

The Union Pacific Railroad Company (UP) seeks temporary relief from the requirements of part 236, section 236.566, of the Rules, Standard and Instructions, to the extent that UP be permitted to operate foreign non-equipped locomotives in detour movements, over UP automatic cab signal/automatic train stop territory, on the Portland Subdivision, between Crates, Oregon, milepost 81.6 and East Portland, milepost 0.6, a distance of approximately 81 miles, from February 14, 2006 through April 14, 2006. The detour movements will consist of four Burlington Northern and Sante Fe (BNSF) freight trains daily.

Applicant's justification for relief: BNSF has requested the detour arrangement to accommodate track improvements on one of their line.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received will be considered as far as practicable by the FRA before final action is taken. All written communications concerning these proceedings are available for examination during regular business hours (9 a.m.—5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on January 23, 2006.
Grady C. Cothen, Jr.,
Deputy Associate Administrator for Safety Standards and Program Development.

[FR Doc. E6-1083 Filed 1-27-06; 8:45 am]

BILLING CODE 4910-06-P